DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301)443-7978.

Survey of Organized Consumer Self-Help Entities—New—The self-help movement in the United States has mushroomed, and increasingly serves mental health consumers and family members as a complement to, or substitution for, traditional mental health services. The purposes of this project of SAMHSA's Center for Mental Health Services are to estimate the number of self-help entities nationwide and to describe their characteristics—structure, types of activities engaged in, approaches to well-being and recovery, resources, and linkages to other entities in the community, such as the mental health service delivery system. The survey will gather information from a sample of approximately 3,900 mental health self-help entities run by and for recipients of mental health services and/or their family members. Data will be collected from three types of self-help entities: mutual support groups; self-help organizations; and, consumer-operated businesses and services. Computer Assisted Telephone Interviewing (CATI) will be used to conduct interviews with in-scope entities. The total response burden estimate is shown below.

Instrument | Number of respondents | Responses/respondent | Average burden/ response (hours) | Total burden (hours)
Universe Development Contacts | 2,736 | 1 | .17 | 465
Screener | 3,933 | 1 | .17 | 668
Questionnaire | 3,933 | 1 | .42 | 1,652
Total |  |  |  | 2,785

Written comments and recommendations concerning the proposed information collection should be sent within 30 days of this notice to: Clarissa Rodriques-Coelho, Human Resources and Housing Branch, Office of Management and Budget, New Executive Office Building, Room 10235, Washington, DC 20503.

Dated: June 23, 2000.
Richard Kopanda,
Executive Officer, SAMHSA.

[FR Doc. 00-16549 Filed 6-29-00; 8:45 am]

BILLING CODE 4162-20-P